DEPARTMENT OF TRANSPORTATION

Federal Highway Administration

Environmental Impact Statement: Sampson, Duplin, and Cumberland Counties, NC

AGENCY: Federal Highway Administration (FHWA), DOT.

ACTION: Revised notice of intent.

SUMMARY: The FHWA is issuing this notice to advise the public that we are rescinding the Draft Environmental Impact Statement for a proposed highway project in Sampson, Duplin, and Cumberland Counties, North Carolina

FOR FURTHER INFORMATION CONTACT: Clarence W. Coleman, P.E., Operations Engineer, Federal Highway Administration, 310 New Bern Avenue, Ste 410, Raleigh, North Carolina 27601-1418, Telephone: (919) 856-4346.

SUPPLEMENTARY INFORMATION: The FHWA, in cooperation with the North Carolina Department of Transportation (NCDOT), is rescinding the Draft Impact Environmental Statement (DEIS) for the proposed NC 24 improvements from 2.8 miles east of I-95 to I-40. In June, 1994, the DEIS for the project was approved, published, and made available for public review. The DEIS evaluated in detail twelve (12) Build alternatives. Following a corridor public hearing in November 1994, a preferred alternative was selected. Subsequently, preliminary design and wetland delineation commenced for the preferred alternative. The results of the wetland delineation indicated that the project would require extensive wetland takings, far more than originally anticipated in earlier studies. As a result of these findings, the U.S. Army Corps of Engineers and other resource agencies indicated that other alternatives should be studied to minimize natural resource impacts. Based on the comments received from various Federal and state agencies the FHWA and NCDOT have agreed not to prepare a Final EIS for the proposed NC 24 improvements from 2.8 miles east of I-95 to I-40.

FHWA and NCDOT are in the process of finalizing the development of a new draft EIS for the proposed project. The new Draft EIS will include full range of alternatives that may utilize sections of existing NC 24 to minimize impacts to natural resources.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)

Issued on: May 4, 2006.
Clarence W. Coleman,
Operations Engineer, Raleigh, North Carolina.

[FR Doc. 06-4368 Filed 5-10-06; 8:45 am]

BILLING CODE 4910-22-M